SMALL BUSINESS ADMINISTRATION

[Disaster Declaration # 11766 and # 11767]

Kentucky Disaster # KY-00022

AGENCY: U.S. Small Business Administration.

ACTION: Notice.

SUMMARY: This is a Notice of the Presidential declaration of a major disaster for the Commonwealth of Kentucky (FEMA-1841-DR), dated 05/29/2009.

Incident: Severe Storms, Tornadoes, Flooding, and Mudslides.

Incident Period: 05/03/2009 Through 05/20/2009.

Effective Date: 05/29/2009.

Physical Loan Application Deadline Date: 07/28/2009.

Economic Injury (EIDL) Loan Application Deadline Date: 03/01/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 05/29/2009, applications for disaster loans may be filed at the address listed above or other locally announced locations.

The following areas have been determined to be adversely affected by the disaster:

Primary Counties (Physical Damage and Economic Injury Loans): Breathitt, Floyd, Owsley, Pike.

Contiguous Counties (Economic Injury Loans Only):

Kentucky: Clay, Jackson, Johnson, Knott, Lee, Letcher, Magoffin, Martin, Perry, Wolfe.

Virginia: Buchanan, Dickenson, Wise.

West Virginia: Mingo.

The Interest Rates are:

| Percent
For Physical Damage:
Homeowners With Credit Available Elsewhere | 4.875
Homeowners Without Credit Available Elsewhere | 2.437
Businesses With Credit Available Elsewhere | 6.000
Other (Including Non-Profit Organizations) With Credit Available Elsewhere | 4.500
Businesses and Non-Profit Organizations Without Credit Available Elsewhere | 4.000
For Economic Injury:
Businesses & Small Agricultural Cooperatives Without Credit Available Elsewhere | 4.000

The number assigned to this disaster for physical damage is 11766B and for economic injury is 117670

.

(Catalog of Federal Domestic Assistance Numbers 59002 and 59008)

James E. Rivera,
Acting Associate Administrator for Disaster Assistance.

[FR Doc. E9-13309 Filed 6-5-09; 8:45 am]

BILLING CODE 8025-01-P